DEPARTMENT OF JUSTICE

[OMB Number 1103-NEW]

Agency Information Collection Activities: Proposed Collection; Comments Requested: Employment Reference Questionnaire

ACTION: 60-Day Notice of Information Collection Under Review.

The Department of Justice (DOJ), Justice Management Division (JMD), will be submitting the following information collection request to the Office of Management and Budget (OMB) for review and approval in accordance with the Paperwork Reduction Act of 1995. The proposed information collection is published to obtain comments from the public and affected agencies. Comments are encouraged and will be accepted for “sixty days” until July 2, 2012. This process is conducted in accordance with 5 CFR 1320.10.

If you have comments especially on the estimated public burden or associated response time, suggestions, or need a copy of the proposed information collection instrument with instructions or additional information, please contact LaTonya Gamble, DOJ, Justice Management Division, 145 N Street NE., Washington DC, 20530.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Employment Reference Questionnaire.

(3) Agency form number, if any, and the applicable component of the Department of Justice sponsoring the collection: Form Number: None.

(4) Affected public who will be asked or required to respond, as well as a brief abstract: Primary: Business or other for-profit. Other: None. The form will be used as a part of DOJ's employment selection process.

(5) An estimate of the total number of respondents and the amount of time estimated for an average respondent to respond: It is estimated that 10,000 respondents will complete a 20 minute form.

(6) An estimate of the total public burden (in hours) associated with the collection: There are an estimated 3,333 annual total burden hours associated with this collection.

If additional information is required contact: Jerri Murray, Department Clearance Officer, Policy and Planning Staff, Justice Management Division, Department of Justice, Two Constitution Square, 145 N Street NE., Suite 2E.808, Washington, DC 20530.

Jerri Murray,
Department Clearance Officer, Department of Justice.

[FR Doc. 2012-10381 Filed 4-30-12; 8:45 am]

BILLING CODE 4410-CG-P